DEPARTMENT OF THE INTERIOR

Bureau of Indian Affairs

[267A2100DD/AAKC001030/A0A501010.000000]

Indian Gaming; Approval by Operation of Law of the Tribal-State Gaming Compact Between the State of California and the Cher-Ae Heights Indian Community of the Trinidad Rancheria

AGENCY: Bureau of Indian Affairs, Interior.

ACTION: Notice.

SUMMARY: This notice announces the approval by operation of law of the Tribal-State Gaming Compact between the State of California and the Cher-Ae Heights Indian Community of the Trinidad Rancheria governing the operation and regulation of class III gaming activities.

DATES: The compact takes effect on January 26, 2026.

FOR FURTHER INFORMATION CONTACT: Mr. Troy M. Woodward, Acting Director, Office of Indian Gaming, Office of the Assistant Secretary—Indian Affairs, Washington, DC 20240, IndianGaming@bia.gov; (202) 219-4066.

SUPPLEMENTARY INFORMATION: The Indian Gaming Regulatory Act of 1988, 25 U.S.C. 2701 et seq., (IGRA) provides the Secretary of the Interior (Secretary) with 45 days to review and approve or disapprove the Tribal-State compact governing the conduct of class III gaming activity on the Tribe's Indian lands. See 25 U.S.C. 2710(d)(8). If the Secretary does not approve or disapprove a Tribal-State compact within the 45 days, IGRA provides the Tribal-State compact is considered to have been approved by the Secretary, but only to the extent the compact is consistent with IGRA. See 25 U.S.C. 2710(d)(8)(D). The IGRA also requires the Secretary to publish in the Federal Register notice of approved Tribal-State compacts for the purpose of engaging in class III gaming activities on Indian lands. See 25 U.S.C. (d)(8)(D). As required by 25 CFR 293.4, all compacts and amendments are subject to review and approval by the Secretary.

The Secretary took no action on the Tribal-State Gaming Compact between the State of California and the Cher-Ae Heights Indian Community of the Trinidad Rancheria within the 45-day statutory review period. Therefore, the compact is considered to have been approved, but only to the extent it is consistent with IGRA. See 25 U.S.C. 2710(d)(8)(C).

William Henry Kirkland, III,
Assistant Secretary—Indian Affairs.

[FR Doc. 2026-01392 Filed 1-23-26; 8:45 am]

BILLING CODE 4337-15-P